DEPARTMENT OF TRANSPORTATION

Federal Aviation Administration

14 CFR Part 39

[Docket No. FAA-2014-0192; Directorate Identifier 2013-NM-221-AD]

RIN 2120-AA64

Airworthiness Directives; Airbus Airplanes

AGENCY: Federal Aviation Administration (FAA), DOT.

ACTION: Notice of proposed rulemaking (NPRM).

SUMMARY: We propose to supersede Airworthiness Directive (AD) 2013-10-06, for all Airbus Model A330-200 Freighter, A330-200, A330-300, A340-200, A340-300, A340-500, and A340-600 series airplanes. AD 2013-10-06 currently requires an inspection to identify the installed windshields, and replacement of any affected windshield. Since we issued AD 2013-10-06, the manufacturer has identified a new batch of affected windshield parts on the airplane. This proposed AD would expand the inspection area to 15 additional windshields' serial numbers. We are proposing this AD to prevent significantly increased workload for the flightcrew, which could, under some flight phases and/or circumstances, constitute an unsafe condition.

DATES: We must receive comments on this proposed AD by May 27, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0192; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM 116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2014-0192; Directorate Identifier 2013-NM-221-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On May 16, 2013, we issued AD 2013-10-06, Amendment 39-17459 (78 FR 32347, May 30, 2013). AD 2013-10-06 requires actions intended to address an unsafe condition on all Airbus Model A330-200 Freighter, A330-200, A330-300, A340-200, A340-300, A340-500, and A340-600 series airplanes.

Since we issued AD 2013-10-06, Amendment 39-17459 (78 FR 32347, May 30, 2013), the manufacturer has identified a new batch of windshield parts that are subject to the identified unsafe condition. The European Aviation Safety Agency (EASA), which is the Technical Agent for the Member States of the European Community, has issued EASA Airworthiness Directive 2013-0256, dated October 21, 2013 (referred to after this as the Mandatory Continuing Airworthiness Information, or “the MCAI”), to correct an unsafe condition for all Airbus Model A330-201, -202, -203, -223, -223F, -243, -243F, -301, -302, -303, -321, -322, -323, -341, -342, and -343 airplanes; and Model A340-211, -212, -213, -311, -312, -313, -541, and -642 airplanes.

The MCAI states:

Several operators reported cases of burning smell and/or smoke in the cockpit during cruise phase leading in some cases to diversion. Findings showed that the cause of these events is the burning of the Saint-Gobain Sully (SGS) windshield connector terminal block.

This condition, if not corrected, could significantly increase the flight crew workload which would, under some flight phases and/or circumstances constitute an unsafe condition.

To address this unsafe condition, Airbus published 3 different Service Bulletins (SB) and EASA issued AD 2011-0242 (later corrected) which required the identification of the installed windshields and replacement of the affected part.

Since issuance of that [EASA] AD, a new occurrence in service led Airbus to identify a new batch of affected parts.

For the reasons described above, this [EASA] AD retains the requirements of EASA AD 2011-0242, which is superseded, and requires identification and replacement of the additionally identified windshields.

You may examine the MCAI in the AD docket on the Internet at http://www.regulations.gov by searching for and locating Docket No. FAA-2014-0192.

Relevant Service Information

Airbus has issued the following service information:

• Airbus Service Bulletin A330-56-3009, Revision 03, including Appendixes 01 and 02, dated August 1, 2013;

• Airbus Service Bulletin A340-56-4008, Revision 02, including Appendixes 01 and 02, dated August 1, 2013; and

• Airbus Service Bulletin A340-56-5002, Revision 02, including Appendixes 01 and 02, dated August 1, 2013.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 60 airplanes of U.S. registry.

The actions that are required by AD 2013-10-06, Amendment 39-17459 (78 FR 32347, May 30, 2013), and retained in this proposed AD take about 2 work-hours per product, at an average labor rate of $85 per work-hour. Required parts cost about $0 per product. Based on these figures, the estimated cost of the actions that were required by AD 2013-10-06 is $170 per product.

We also estimate that it would take about 2 work-hours per product to comply with the basic requirements of this proposed AD. The average labor rate is $85 per work-hour. Required parts would cost about $0 per product. Based on these figures, we estimate the cost of this proposed AD on U.S. operators to be $10,200, or $170 per product.

In addition, we estimate that any necessary follow-on actions would take about 10 work-hours and require parts costing $0, for a cost of $850 per product. We have no way of determining the number of aircraft that might need this action.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2013-10-06, Amendment 39-17459 (78 FR 32347, May 30, 2013), and adding the following new AD:

Airbus: Docket No. FAA-2014-0192; Directorate Identifier 2013-NM-221-AD.

(a) Comments Due Date

We must receive comments by May 27, 2014.

(b) Affected ADs

This AD supersedes AD 2013-10-06, Amendment 39-17459 (78 FR 32347, May 30, 2013).

(c) Applicability

This AD applies to all airplanes identified in paragraphs (c)(1) and (c)(2) of this AD, certificated in any category, all manufacturer serial numbers.

(1) Airbus Model A330-201, -202, -203, -223, -223F, -243, -243F, -301, -302, -303, -321, -322, -323, -341, -342, and -343 airplanes.

(2) Airbus Model A340-211, -212, -213, -311, -312, -313, -541, and -642 airplanes.

(d) Subject

Air Transport Association (ATA) of America Code 56, Windows.

(e) Reason

This AD was prompted by several reports of a burning smell and/or smoke in the cockpit during cruise phase, leading in some cases, to diversion to alternate airports. We are issuing this AD to prevent significantly increased workload for the flightcrew, which could, under some flight phases and/or circumstances, constitute an unsafe condition.

(f) Compliance

You are responsible for having the actions required by this AD performed within the compliance times specified, unless the actions have already been done.

(g) Retained Inspection With Revised Service Information

This paragraph restates the requirements of paragraph (g) of AD 2013-10-06, Amendment 39-17459 (78 FR 32347, May 30, 2013), with revised service information. Within 1,200 flight hours after July 5, 2013 (the effective date of AD 2013-10-06), inspect to identify the manufacturer, the part number, and the serial number of the left-hand (LH) and right-hand (RH) windshields installed on the airplane, in accordance with the Accomplishment Instructions of the applicable Airbus service information specified in paragraph (g)(1), (g)(2), or (g)(3) of this AD. A review of airplane delivery or maintenance records is acceptable in lieu of this inspection if the manufacturer, part number, and serial number of the installed windshields can be conclusively determined from that review.

(1) For Model A330-201, -202, -203, -223, -223F, -243, -243F, -301, -302, -303, -321, -322, -323, -341, -342, and -343 airplanes: Airbus Service Bulletin A330-56-3009, Revision 02, including Appendix 01, dated February 8, 2012; or Airbus Service Bulletin A330-56-3009, Revision 03, including Appendixes 01 and 02, dated August 1, 2013. As of the effective date of this AD, use only Airbus Service Bulletin A330-56-3009, Revision 03, including Appendixes 01 and 02, dated August 1, 2013, to do the actions required by paragraph (g) of this AD.

(2) For Model A340-211, -212, -213, -311, -312, and -313 airplanes: Airbus Service Bulletin A340-56-4008, Revision 01, including Appendix 01, dated February 8, 2012; or Airbus Service Bulletin A340-56-4008, Revision 02, including Appendixes 01 and 02, dated August 1, 2013. As of the effective date of this AD, use only Airbus Service Bulletin A340-56-4008, Revision 02, including Appendixes 01 and 02, dated August 1, 2013, to do the actions required by paragraph (g) of this AD.

(3) For Model A340-541 and -642 airplanes: Airbus Service Bulletin A340-56-5002, Revision 01, including Appendix 01, dated February 8, 2012; or Airbus Service Bulletin A340-56-5002, Revision 02, including Appendixes 01 and 02, dated August 1, 2013. As of the effective date of this AD, use only Airbus Service Bulletin A340-56-5002, Revision 02, including Appendixes 01 and 02, dated August 1, 2013, to do the actions required by paragraph (g) of this AD.

(h) Retained Replacement With Revised Service Information

This paragraph restates the requirements of paragraph (h) of AD 2013-10-06, Amendment 39-17459 (78 FR 32347, May 30, 2013), with revised service information. If it is found, during the inspection required by paragraph (g) of this AD, that any installed LH or RH windshield was manufactured by Saint-Gobain Sully (SGS) and the part number and serial number are specified in the applicable Airbus service information specified in paragraph (g)(1), (g)(2), or (g)(3) of this AD: Within 9 months or 1,200 flight hours after July 5, 2013 (the effective date of AD 2013-10-06), whichever occurs first, replace all affected LH and RH windshields, in accordance with the Accomplishment Instructions of the applicable Airbus service information specified in paragraph (h)(1), (h)(2), or (h)(3) of this AD.

(1) For Model A330-201, -202, -203, -223, -223F, -243, -243F, -301, -302, -303, -321, -322, -323, -341, -342, and -343 airplanes: Airbus Service Bulletin A330-56-3009, Revision 02, including Appendix 01, dated February 8, 2012; or Airbus Service Bulletin A330-56-3009, Revision 03, including Appendixes 01 and 02, dated August 1, 2013. As of the effective date of this AD, use only Airbus Service Bulletin A330-56-3009, Revision 03, including Appendixes 01 and 02, dated August 1, 2013, to do the actions required by paragraph (h) of this AD.

(2) For Model A340-211, -212, -213, -311, -312, and -313 airplanes: Airbus Service Bulletin A340-56-4008, Revision 01, including Appendix 01, dated February 8, 2012; or Airbus Service Bulletin A340-56-4008, Revision 02, including Appendixes 01 and 02, dated August 1, 2013. As of the effective date of this AD, use only Airbus Service Bulletin A340-56-4008, Revision 02, including Appendixes 01 and 02, dated August 1, 2013, to do the actions required by paragraph (h) of this AD.

(3) For Model A340-541 and -642 airplanes: Airbus Service Bulletin A340-56-5002, Revision 01, including Appendix 01, dated February 8, 2012; or Airbus Service Bulletin A340-56-5002, Revision 02, including Appendixes 01 and 02, dated August 1, 2013. As of the effective date of this AD, use only Airbus Service Bulletin A340-56-5002, Revision 02, including Appendixes 01 and 02, dated August 1, 2013, to do the actions required by paragraph (h) of this AD.

(i) New Requirement of This AD: Inspection

Within 6 months after the effective date of this AD, inspect to identify the manufacturer, the part number, and the serial number of the LH and RH windshields installed on the airplane, in accordance with the Accomplishment Instructions of the applicable Airbus service information specified in paragraph (i)(1), (i)(2), or (i)(3) of this AD. A review of airplane delivery or maintenance records is acceptable in lieu of this inspection if the manufacturer, part number, and serial number of the installed windshields can be conclusively determined from that review.

(1) For Model A330-201, -202, -203, -223, -223F, -243, -243F, -301, -302, -303, -321, -322, -323, -341, -342, and -343 airplanes: Airbus Service Bulletin A330-56-3009, Revision 03, including Appendixes 01 and 02, dated August 1, 2013.

(2) For Model A340-211, -212, -213, -311, -312, and -313 airplanes: Airbus Service Bulletin A340-56-4008, Revision 02, including Appendixes 01 and 02, dated August 1, 2013.

(3) For Model A340-541 and -642 airplanes: Airbus Service Bulletin A340-56-5002, Revision 02, including Appendixes 01 and 02, dated August 1, 2013.

(j) New Requirement of This AD: Replacement

If it is found, during the inspection required by paragraph (i) of this AD, that any installed LH or RH windshield was manufactured by Saint-Gobain Sully (SGS) and the part number and serial number are specified in Appendix 2 of the applicable Airbus service information specified in paragraph (j)(1), (j)(2), or (j)(3) of this AD, or if the manufacturer or part number or serial number is not identifiable: Within 6 months after the effective date of this AD, replace the affected LH and/or RH windshield with a serviceable part, in accordance with the Accomplishment Instructions of the applicable Airbus service information specified in paragraph (j)(1), (j)(2), or (j)(3) of this AD.

(1) For Model A330-201, -202, -203, -223, -223F, -243, -243F, -301, -302, -303, -321, -322, -323, -341, -342, and -343 airplanes: Airbus Service Bulletin A330-56-3009, Revision 03, including Appendixes 01 and 02, dated August 1, 2013.

(2) For Model A340-211, -212, -213, -311, -312, and -313 airplanes: Airbus Service Bulletin A340-56-4008, Revision 02, including Appendixes 01 and 02, dated August 1, 2013.

(3) For Model A340-541 and -642 airplanes: Airbus Service Bulletin A340-56-5002, Revision 02, including Appendixes 01 and 02, dated August 1, 2013.

(k) Definition of Serviceable Windshield

For the purposes of this AD, a serviceable windshield is a windshield not identified in Appendix 1 of the applicable Airbus service information as specified in paragraphs (j)(1), (j)(2), or (j)(3) of this AD; or it is specified in Appendix 1 but has a suffix “U” added to the serial number on the identification plate.

(l) Parts Installation Limitations

As of the effective date of this AD, no person may install, on any airplane, an affected windshield from SGS having a part number and serial number identified in Appendix 1 of the applicable Airbus service information as specified in paragraph (l)(1), (l)(2), or (l)(3) of this AD, unless a suffix “U” has been added on the serial number identification plate.

(1) For Model A330-201, -202, -203, -223, -223F, -243, -243F, -301, -302, -303, -321, -322, -323, -341, -342, and -343 airplanes: Airbus Service Bulletin A330-56-3009, Revision 03, including Appendixes 01 and 02, dated August 1, 2013.

(2) For Model A340-211, -212, -213, -311, -312, and -313 airplanes: Airbus Service Bulletin A340-56-4008, Revision 02, including Appendix 01 and 02, dated August 1, 2013.

(3) For Model A340-541 and -642 airplanes: Airbus Service Bulletin A340-56-5002, Revision 02, including Appendixes 01 and 02, dated August 1, 2013.

(m) Credit for Previous Actions

This paragraph provides credit for actions required by paragraphs (g) and (h) of this AD, if those actions were performed before the effective date of this AD using the applicable Airbus service information specified in paragraphs (m)(1) through (m)(4) of this AD, provided that the actions were accomplished on the airplane, and no replacement windshield has been installed with a part number and serial number identified in Appendix 02 of the applicable Airbus service information as specified in paragraphs (j)(1) through (j)(3) of this AD.

(1) Airbus Service Bulletin A330-56-3009, dated May 4, 2010 (for Model A330-201, -202, -203, -223, -223F, -243, -243F, -301, -302, -303, -321, -322, -323, -341, -342, and -343 airplanes), which is not incorporated by reference in this AD.

(2) Airbus Service Bulletin A330-56-3009, Revision 01, dated January 27, 2011 (for Model A330-201, -202, -203, -223, -223F, -243, -243F, -301, -302, -303, -321, -322, -323, -341, -342, and -343 airplanes), which is not incorporated by reference in this AD.

(3) Airbus Service Bulletin A340-56-4008, dated May 4, 2010 (for Model A340-211, -212, -213, -311, -312, and -313 airplanes), which is not incorporated by reference in this AD.

(4) Airbus Service Bulletin A340-56-5002, dated May 4, 2010 (for Model A340-541 and -642 airplanes), which is not incorporated by reference in this AD.

(n) Other FAA AD Provisions

The following provisions also apply to this AD:

(1) Alternative Methods of Compliance (AMOCs): The Manager, International Branch, ANM-116, FAA, Transport Airplane Directorate, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM 116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval, as applicable). You are required to ensure the product is airworthy before it is returned to service.

(o) Related Information

(1) Refer to Mandatory Continuing Airworthiness Information (MCAI) EASA Airworthiness Directive 2013-0256, dated October 21, 2013, for related information. This MCAI may be found in the AD docket on the Internet at http://www.regulations.gov by searching for and locating Docket No. FAA-2014-0192.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on April 1, 2014.
Michael Kaszycki,
Acting Manager, Transport Airplane Directorate, Aircraft Certification Service.

[FR Doc. 2014-07954 Filed 4-8-14; 8:45 am]

BILLING CODE 4910-13-P